FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 008493-026.

Title: Trans-Pacific American Flag Berth Operators Agreement.

Parties: American President Lines, Ltd., and Maersk Line Limited.

Filing Party: Howard A. Levy, Esq.; 80 Wall Street, Suite 1117; New York, NY 10005-3602.

Synopsis: The amendment substitutes Maersk Line Limited for A.P. Moller Maersk A/S in the agreement.

Agreement No.: 010714-042.

Title: Trans-Atlantic American Flag Liner Operators Agreement.

Parties: American President Lines, Ltd.; American Roll-On Roll-Off Carrier, LLC; Maersk Line Limited; and Hapag-Lloyd USA, LLC.

Filing Party: Howard A. Levy, Esq.; 80 Wall Street, Suite 1117; New York, NY 10005.

Synopsis: The amendment substitutes Maersk Line Limited for A.P. Moller Maersk A/S in the agreement.

Agreement No.: 012021.

Title: COSCON/SINOLINES Slot Charter Agreement.

Parties: COSCO Container Lines Company Ltd. and Sinotrans Container Lines Co. Ltd.

Filing Party: Robert B. Yoshitomi; Nixon Peabody, LLP; 555 West Fifth Street, 46th Floor; Los Angeles, CA 90013.

Synopsis: Agreement authorizes COSCO Container Lines Company Ltd. to charter slots to Sinotrans Container Lines Co., Ltd. between U.S. West Coast ports and ports in China and Japan.

By Order of the Federal Maritime Commission.

Dated: December 14, 2007.
Karen V. Gregory,
Assistant Secretary.

[FR Doc. E7-24597 Filed 12-18-07; 8:45 am]

BILLING CODE 6730-01-P